DEPARTMENT OF THE INTERIOR

Office of the Secretary

Establishment of the Wildland Fire Executive Council

AGENCY: Department of the Interior.

ACTION: Notice.

SUMMARY: In accordance with the provisions of the Federal Advisory Committee Act (FACA), as amended, 5 U.S.C. App. 2, and with the concurrence of the General Services Administration, the Department of the Interior and the Department of Agriculture are announcing the establishment of the Wildland Fire Executive Council (WFEC). The purpose of the WFEC is to provide advice on the coordinated national level wildland fire policy leadership, direction, and program oversight in support to the Wildland Fire Leadership Council.

FOR FURTHER INFORMATION CONTACT: Kirk Rowdabaugh, Office of Wildland Fire Coordination, 1849 C Street, NW., Room 2660, Washington, DC 20240; (202) 606-3447.

SUPPLEMENTARY INFORMATION: The WFEC is being established as a discretionary advisory committee under the authorities of the Secretary of the Interior and Secretary of Agriculture, in furtherance of 43 U.S.C. 1457 and provisions of the Fish and Wildlife Act of 1956 (16 U.S.C. 742a-742j), the Federal Land Policy and Management Act of 1976 (43 U.S.C. 1701 et seq.), the National Wildlife Refuge System Improvement Act of 1997 (16 U.S.C. 668dd-668ee), and the National Forest Management Act of 1976 (16 U.S.C. 1600 et seq.) and in accordance with the provisions of the FACA, as amended, 5 U.S.C. App. 2. The Secretary of the Interior and Secretary of Agriculture certify that the formation of the WFEC is necessary and is in the public interest.

The WFEC will conduct its operations in accordance with the provisions of the FACA. It will report to the Secretary of the Interior and Secretary of Agriculture through the Wildland Fire Leadership Council, which is comprised of, in part, the Assistant Secretary for Policy, Management and Budget and the Directors of National Park Service, the U.S. Fish and Wildlife Service, the Bureau of Land Management, the Bureau of Indian Affairs, and the U.S. Geological Survey for the Department of the Interior, and for the Department of Agriculture, the Under Secretary for Natural Resources and Environment, the Deputy Under Secretary for Natural Resources and Environment, and the Chief of the Forest Service.

The Department of the Interior's Office of Wildland Fire Coordination will provide support for the WFEC.

The purpose of the WFEC is to provide advice on the coordinated national level wildland fire policy leadership, direction, and program oversight in support to the Wildland Fire Leadership Council.

The WFEC will meet approximately 6-12 times a year. The Secretary of the Interior and the Secretary of Agriculture will appoint members on a staggered term basis for terms not to exceed 3 years.

Members of the WFEC shall be composed of representatives from the Federal government, and from among, but not limited to, the following interest groups. (1) Director, Department of the Interior, Office of Wildland Fire Coordination; (2) Director, United States Department of Agriculture, Forest Service, Fire and Aviation Management; (3) Assistant Administrator, U.S. Fire Administration; (4) National Wildfire Coordinating Group; (5) National Association of State Foresters; (6) International Association of Fire Chiefs; (7) Intertribal Timber Council; (8) National Association of Counties; (9) National League of Cities; and (10) National Governors' Association.

No individual who is currently registered as a Federal lobbyist is eligible to serve as a member of the WFEC.

Certification Statement: I hereby certify that the establishment of the Wildland Fire Executive Council is necessary and is in the public interest in connection with the performance of duties imposed on the Department of the Interior and the Department of Agriculture under 43 U.S.C. 1457 and provisions of the Fish and Wildlife Act of 1956 (16 U.S.C. 742a-742j), the Federal Land Policy and Management Act of 1976 (43 U.S.C. 1701 et seq.), the National Wildlife Refuge System Improvement Act of 1997 (16 U.S.C. 668dd-668ee), and the National Forest Management Act of 1976 (16 U.S.C. 1600 et seq.).

Ken Salazar,
Secretary of the Interior.
Dated: February 3, 2011.
Thomas Vilsack,
Secretary of Agriculture.

[FR Doc. 2011-3350 Filed 2-14-11; 8:45 am]

BILLING CODE 4310-J4-P